DEPARTMENT OF THE INTERIOR

Bureau of Land Management

[LLNVB02000.L51010000.ER0000.F0900080; NVN-86292; 09-08807; TAS:14X5017]

Notice of Intent To Prepare an Environmental Impact Statement for the Proposed Tonopah Solar Energy, LLC Crescent Dunes Solar Energy Project, Nye County, NV

AGENCY: Bureau of Land Management, Interior.

ACTION: Notice of intent.

SUMMARY: In compliance with the National Environmental Policy Act (NEPA) of 1969, as amended, the Bureau of Land Management (BLM), Battle Mountain District Office, Tonopah Field Office, Nevada intends to prepare an environmental impact statement (EIS) for the Crescent Dunes Solar Energy Project located on public lands in Nye County, Nevada.

DATES: Submit comments on or before December 24, 2009. The BLM will announce public scoping meetings to identify relevant issues through local news media and the BLM Web site, http://www.blm.gov/nv/st/en/fo/battle_mountain_field.html, at least 15 days prior to each meeting. The BLM will provide additional opportunities for public participation upon publication of the Draft EIS.

ADDRESSES: You may submit comments on issues related to the proposed project by the following methods:

• E-mail: crescent_dunes@blm.gov

• Fax: (775) 482-7810 (attention: Tim Coward)

• Mail or Hand Delivery: Bureau of Land Management, Tonopah Field Office, Attn: Tim Coward, Project Manager, 1553 South Main Street, P.O. Box 911, Tonopah, NV 89049.

Documents pertinent to this project may be examined at the Tonopah Field Office.

FOR FURTHER INFORMATION CONTACT: For further information or to have your name added to the mailing list, contact Tim Coward, (775) 482-7800, or e-mail crescent_dunes@blm.gov.

SUPPLEMENTARY INFORMATION: Tonopah Solar Energy, LLC has submitted a right-of-way application to the BLM to build a solar power generation facility, with a net generating capacity of up to 180 megawatts (MW) of electricity based on concentrating solar power technology (CSP). The proposed solar power plant, including the heliostat array, power tower, power block, and associated facilities would be built on about 1,600 acres of public land, northwest of Tonopah, Nevada. The project is proposed to be built entirely on lands administered by the BLM Battle Mountain District, Tonopah Field Office.

The solar facility would include a large field of heliostats or mirrors to reflect the sun's energy onto a central solar receiver or tower; a conventional steam turbine to generate electricity; thermal storage tanks to store hot and cold liquid salt; a hybrid cooling system; associated equipment such as pumps, transformers, heat exchangers, and buildings; and associated linear facilities including an eight-mile transmission line, access road and possible water supply pipeline.

The heliostat array would be a circular field with a radius of approximately 4,400 feet. The proposed array would consist of approximately 17,350 heliostats, each approximately 670 square feet in size. The heliostats would be arranged in arcs around the central solar receiver or tower. The central solar receiver or tower would be a concrete structure, approximately 538 feet high, supporting a cylindrical receiver, approximately 95 feet tall. The total height of the receiver would be approximately 633 feet. A 20-foot tall maintenance crane would be mounted on top of the receiver. The primary components of the power block include a solar steam generator system; a solar preheater; an evaporator; a steam turbine; and feedwater heaters. A hybrid cooling system would be employed at the site. The hybrid cooling system would consist of an air-cooled condenser augmented with a wet cooling system designed to minimize water consumption. The proposal includes a thermal storage system using liquid salt held in tanks to store solar heat energy for later steam generation, as well as associated pumps and piping.

The bulk of the electric power produced by the facility would be transmitted to the electric grid under the control of the Sierra Pacific Power Company, doing business as NV Energy, and delivered to the Anaconda 230-kilovolt (kV) Substation, located about 8 miles north of the site. A high voltage overhead transmission line would be constructed to deliver power from the plant switchyard to the Anaconda substation. It is proposed that the new transmission line would parallel an existing transmission line that crosses the northwest corner of the site. Access to the site would be provided from State Route 89. Buildings and enclosures planned for the project include a steam generator area building, a steam turbine enclosure building, an electrical building, an administration and maintenance building, and a heliostat assembly building with a warehouse. On-site storage for spare components would be required for maintenance uses. In addition, on-site storage facilities for water pretreatment chemicals, cooling water treatment chemicals, and boiler water treatment chemicals would be necessary. The proposed project would be designed for a life of 30 years.

The EIS will analyze the site-specific impacts of the proposed project on air quality, biological resources (including special status species) cultural resources, water resources, geological resources, paleontological resources, public health, socioeconomics, soils, traffic and transportation, and visual resources. It will also analyze the geological hazards, hazardous materials handling, land use, waste management, and worker safety and fire protection potentially associated with the proposed project. Native American Tribal consultations will be conducted and Tribal concerns will be given due consideration. The EIS will include the consideration of any impacts on Indian trust assets.

Before including your address, phone number, e-mail address, or other personal identifying information in your comment, you should be aware that your entire comment, including your personal identifying information, may be made publicly available at any time. While you can ask us in your comment to withhold your personal identifying information from public review, we cannot guarantee that we will be able to do so. Federal, State, and local agencies, as well as individuals or organizations that may be interested in or affected by the BLM's decision on this project are invited to participate in the scoping process and, if eligible, may request or be requested by the BLM, to participate as a cooperating agency.

Authority: 43 CFR Part 2800.

Thomas J. Seley,
Field Manager, Tonopah Field Office.

[FR Doc. E9-28188 Filed 11-23-09; 8:45 am]

BILLING CODE 4310-HC-P